DEPARTMENT OF TRANSPORTATION

Federal Aviation Administration

14 CFR Part 1, 23, 25, 27, 29, 61, 91, 121, 125, and 135

[Docket No. FAA-2013-0485; Notice No. 1209]

RIN 2120-AJ94

Revisions to Operational Requirements for the Use of Enhanced Flight Vision Systems (EFVS) and to Pilot Compartment View Requirements for Vision Systems; Extension of Comment Period

AGENCY: Federal Aviation Administration (FAA), DOT.

ACTION: Notice of proposed rulemaking (NPRM); extension of comment period.

SUMMARY: This action extends the comment period for an NPRM that was published on June 11, 2013. In that document, the FAA proposed to permit operators to use an EFVS in lieu of natural vision to continue descending from 100 feet height above runway touchdown zone elevation and land on certain straight-in instrument approach procedures under instrument flight rules. This rule would also permit certain operators using EFVS-equipped aircraft to dispatch, release, or takeoff under instrument flight rules (IFR), and to initiate and continue an approach, when the destination airport weather is below authorized visibility minimums for the runway of intended landing. Pilot training, recent flight experience, and proficiency would be required for operators who use EFVS in lieu of natural vision to descend below decision altitude, decision height, or minimum descent altitude. EFVS-equipped aircraft conducting operations to touchdown and rollout would be required to meet additional airworthiness requirements. This rule would also revise pilot compartment view certification requirements for all vision systems. Given the technical complexity of the NPRM, Dassault-Aviation has requested that the FAA extend the comment period to October 15, 2013 to allow time to adequately analyze the NPRM and provide meaningful comments.

DATES: The comment period for the NPRM published on June 11, 2013, was scheduled to close on September 9, 2013, and is extended until October 15, 2013.

ADDRESSES: You may send comments identified by docket number FAA-2013-0485 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Ida Klepper, ARM-100, Office of Rulemaking, Federal Aviation Administration, 800 Independence Avenue SW., Washington, DC 20591, telephone (202) 267-9688; email Ida.Klepper@faa.gov.

SUPPLEMENTARY INFORMATION: See the “Additional Information” section for information on how to comment on this proposal and how the FAA will handle comments received. The “Additional Information” section also contains related information about the docket. In addition, there is information on obtaining copies of related rulemaking documents.

Background

On June 11, 2013, the FAA issued Notice No. 1209, entitled “Revisions to Operational Requirements for the Use of Enhanced Flight Vision Systems (EFVS) and to Pilot Compartment View Requirements for Vision Systems” (78 FR 34935). Comments to that document were to be received on or before September 9, 2013.

Dassault-Aviation submitted an electronic request for an extension of the comment period from September 9, 2013 to October 15, 2013. The petitioner requested this extension to allow adequate time to evaluate and prepare comments for the NPRM and two draft Advisory Circulars (ACs) which are directly related to the NPRM. On August 13, 2013, the FAA published a Notice of Availability (78 FR 49318) making draft AC 90-106A, Enhanced Flight Vision Systems, and draft AC 20-167A, Airworthiness Approval of Enhanced Vision System, Synthetic Vision System, Combined Vision System, and Enhanced Flight Vision System Equipment, available for public comment. The comment period for both ACs closes on October 15, 2013. The petitioner asserted that comments to the NPRM should be linked with comments to both draft ACs, and that the comment period for the NPRM should therefore be extended to October 15, 2013 to match the comment period closing date for the draft ACs. The petitioner further asserted that doing so would provide them with adequate additional time to evaluate and provide comments for all three documents. The FAA agrees with the petitioner's position and is granting an extension of the comment period to October 15, 2013.

Extension of Comment Period

In accordance with § 11.47(c) of title 14, Code of Federal Regulations, the FAA has reviewed the petition made by Dassault-Aviation for extension of the comment period to the NPRM. This petitioner has shown a substantive interest in the proposed rule and good cause for the extension. The FAA has determined that extension of the comment period is consistent with the public interest, and that good cause exists for taking this action.

Accordingly, the comment period for the NPRM Notice No. 1209 is extended until October 15, 2013.

Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or notice number of this rulemaking.

All documents the FAA considered in developing this proposed rule, including economic analyses and technical reports, may be accessed from the Internet through the Federal eRulemaking Portal referenced in item (1) above.

Issued in Washington, DC, on September 3, 2013.
Lirio Liu,
Director, Office of Rulemaking.

[FR Doc. 2013-21698 Filed 9-5-13; 8:45 am]

BILLING CODE 4910-13-P